DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Permitting, Vessel Identification, and Reporting Requirements for Deepwater Shrimp Fisheries in the Western Pacific Region.

OMB Control Number: 0648-0586.

Form Number(s): NA.

Type of Request: Regular submission (extension of a current information collection).

Number of Respondents: 10.

Average Hours per Response: Permit applications/renewals, 30 minutes; logbooks, 10 minutes per trip; vessel identification, 45 minutes.

Burden Hours: 180.

Needs and Uses: This request is for extension of a currently approved information collection.

Under the Code of Federal Regulations in Title 50, Part 665, all vessel owners who fish for deepwater shrimp (Heterocarpus spp.), or land these species in ports, in the western Pacific region must obtain a Federal permit from the National Marine Fisheries Service (NMFS). They must also mark their vessels for identification. Vessel operators must submit NMFS logbook reports of their fishing activity to NMFS within 72 hours of the end of each fishing trip.

The information collected is used to identify participants in the fishery, document fishing activities and landings, determine the conditions of the stocks, assess the effectiveness of management measures, evaluate the benefits and costs of changes in management measures, and monitor and respond to accidental takes of protected species, including seabirds, turtles, and marine mammals.

Vessel owners must identify their vessels to assist in aerial and at-sea enforcement of fishing regulations.

Affected Public: Business or other for-profit organizations.

Frequency: Annually and on occasion.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: May 2, 2012.
Gwellnar Banks,
Management Analyst, Office of the Chief Information Officer.

[FR Doc. 2012-10908 Filed 5-4-12; 8:45 am]

BILLING CODE 3510-22-P